DEPARTMENT OF JUSTICE

Notice of Lodging of a Consent Decree

Under the Clean Water Act

Notice is hereby given that on March 14, 2008, a proposed Consent Decree (“Decree”) in United States & Commonwealth of Kentucky v. Lexington Fayette Urban County Government, Civil Action No. 5:06-cv-00386-KSF, was lodged with the United States District Court for the Eastern District of Kentucky, Central Division.

The proposed Consent Decree would resolve claims against the Lexington Fayette Urban County Government (“LFUCG”) for the Clean Water Act violations involving the municipal separate storm sewer system and the sanitary sewer system alleged in the complaint filed in November 2006 by the United States and the Commonwealth of Kentucky. The proposed Consent Decree provides for LFUCG to perform injunctive measures as described in the Consent Decree, to pay a civil penalty of $425,000 to the United States, and to perform federal Supplemental Environmental Projects valued at $1.23 million, and state environmental projects valued at $1.5 million.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States & Commonwealth of Kentucky v. Lexington Fayette Urban County Government, Civil Action No. 5:06-cv-00386-KSF, D.J. Ref. 90-5-1-1-08858.

The Consent Decree may be examined at the Office of the United States Attorney for the Eastern District of Kentucky, 260 West Vine Street, Lexington, KY 40507, and at the Region 4 Office of the Environmental Protection Agency, Atlanta Federal Center, 61 Forsyth Street, SW., Atlanta, GA 30303. During the public comment period, the Consent Decree may also be examined on the following Department of Justice Web site, to: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree exclusive of appendices from the Consent Decree Library, please enclose a check in the amount of $24.50 (25 cents per page reproduction cost) payable to the U.S. Treasury or, if by e-mail or fax, forward a check in that amount to the Consent Decree Library at the stated address. To obtain copies of the appendices to the Consent Decree, which are approximately 1,800 pages, please contact Tonia Fleetwood regarding the total cost of copying appendices, at 25 cents per page.

Henry S. Friedman,
Assistant Chief, Environmental Enforcement Section, Environment and Natural Resources Division.

[FR Doc. E8-5671 Filed 3-20-08; 8:45 am]

BILLING CODE 4410-15-P